DEPARTMENT OF COMMERCE

International Trade Administration

[A-469-814]

Chlorinated Isocyanurates From Spain: Final Results of Antidumping Duty Administrative Review; 2021-2022

AGENCY: Enforcement and Compliance, International Trade Administration, Department of Commerce.

SUMMARY: The U.S. Department of Commerce (Commerce) determines that sales of chlorinated isocyanurates from Spain were made as less than normal value during the period of review (POR) June 1, 2021, through May 31, 2022.

DATES: Applicable November 9, 2023.

FOR FURTHER INFORMATION CONTACT: Andrew Huston, AD/CVD Operations, Office VII, Enforcement and Compliance, International Trade Administration, U.S. Department of Commerce, 1401 Constitution Avenue NW, Washington, DC 20230; telephone: (202) 482-4261.

SUPPLEMENTARY INFORMATION:

Background

On July 7, 2023, Commerce published the preliminary results of the administrative review of the antidumping duty order on chlorinated isocyanurates (chlorinated isos) from Spain.¹ For a summary of the events that occurred since the Preliminary Results, see the Issues and Decision Memorandum.² The sole mandatory respondent in this administrative review is Ercros S.A. (Ercros). The producers/exporters not selected for individual examination are listed in the “Final Results of Review” section of this notice.

¹ See Chlorinated Isocyanurates from Spain: Preliminary Results of Antidumping Duty Administrative Review; 2021-2022, 88 FR 43305 (July 7, 2023) (Preliminary Results), and accompanying Preliminary Decision Memorandum.

² See Memorandum, “Issues and Decision Memorandum for the Final Results of the Administrative Review of the Antidumping Duty Order on Chlorinated Isocyanurates from Spain; 2021-2022,” dated concurrently with, and hereby adopted by, this notice (Issues and Decision Memorandum).

Scope of the Order ³

³ See Chlorinated Isocyanurates from Spain: Notice of Antidumping Duty Order, 70 FR 36562 (June 24, 2005) (Order).

The products covered by the Order are chlorinated isos, which are derivatives of cyanuric acid, described as chlorinated s-triazine triones. Chlorinated isos are currently classifiable under subheadings 2933.69.6015, 2933.69.6021, 2933.69.6050, 3808.40.50, 3808.50.40 and 3808.94.5000 of the Harmonized Tariff Schedule of the United States (HTSUS). The HTSUS subheadings are provided for convenience and customs purposes only; the written product description of the scope of the Order is dispositive. For a full description of the scope of the order, see the Issues and Decision Memorandum.

Analysis of Comments Received

Commerce addressed all issues raised in the case and rebuttal briefs in the Issues and Decision Memorandum. These issues are identified in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of the comments received, we have made certain changes to the home market and margin calculations for Ercros since the Preliminary Results. Specifically, we have revised Ercros' home market program to include certain movement expenses and revised the margin program to change currency conversions for inland insurance and commissions.

Non-Individually Examined Companies

For the rate for non-selected companies in an administrative review, generally, Commerce looks to section 735(c)(5) of the Tariff Act of 1930, as amended (the Act), which provides instructions for calculating the all-others rate in a market economy investigation. Under section 735(c)(5)(A) of the Act, the all-others rate is normally “an amount equal to the weighted average of the estimated weighted average dumping margins established for exporters and producers individually investigated, excluding any zero or de minimis margins, and any margins determined entirely {on the basis of facts available}.” In this segment of the proceeding, we calculated a margin for Ercros that was not zero, de minimis, or based entirely on facts available. Accordingly, we have applied the margin calculated for Ercros to the non-individually examined companies.

Final Results of Review

As a result of this administrative review, we determine that the following weighted-average dumping margins exist for the period June 1, 2021 through May 31, 2022.

Manufacturer/exporter | Weighted- average dumping margin (percent)
Ercros S.A | 9.05
Review-Specific Rate Applicable to the Following Companies:
Industrias Quimicas Tamar S.L | 9.05
Electroquimic de Hernani, S.A | 9.05

Disclosure

Commerce intends to disclose the calculations performed for Ercros in these final results to interested parties within five days of the date of publication of this notice in the Federal Register, in accordance with 19 CFR 351.224(b).

Assessment

Pursuant to section 751(a)(2)(C) of the Act and 19 CFR 351.212(b), Commerce has determined, and U.S. Customs and Border Protection (CBP) shall assess, antidumping duties on all appropriate entries of subject merchandise in accordance with the final results of this administrative review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Where the respondent reported reliable entered values, Commerce calculated importer- (or customer-) specific ad valorem rates by aggregating the dumping margins calculated for all U.S. sales to each importer (or customer) and dividing this amount by the total entered value of the sales to each importer (or customer).⁴ Where Commerce calculated a weighted-average dumping margin by dividing the total amount of dumping for reviewed sales to a specific importer or customer by the total sales quantity associated with those transactions, Commerce will direct CBP to assess importer- (or customer-) specific assessment rates based on the resulting per-unit rates.⁵ Where an importer- (or customer-) specific ad valorem or per-unit rate is greater than de minimis (i.e., 0.50 percent), Commerce will instruct CBP to collect the appropriate duties at the time of liquidation.⁶ Where an importer- (or customer-) specific ad valorem or per-unit rate is zero or de minimis, Commerce will instruct CBP to liquidate appropriate entries without regard to antidumping duties.⁷

⁴ See 19 CFR 351.212(b)(1).

⁵ Id.

⁶ Id.

⁷ See 19 CFR 351.106(c)(2).

In accordance with Commerce's “automatic assessment” practice, for entries of subject merchandise that entered the United States during the POR that were produced by Ercros for which the respondent did not know that its merchandise was destined to the United States, Commerce will instruct CBP to liquidate unreviewed entries at the all-others rate of 24.83 percent,⁸ if there is no rate for the intermediate company(ies) involved in the transaction.⁹ For companies identified above that were not selected for individual examination, we will instruct CBP to liquidate entries at the rates established in these final results of review.

⁸ See Chlorinated Isocyanurates from Spain: Notice of Final Determination of Sales at Less Than Fair Value, 70 FR 24506 (May 10, 2005) (Chlorinated Isos from Spain Final Determination).

⁹ For a full discussion of this practice, see Antidumping and Countervailing Duty Proceedings: Assessment of Antidumping Duties, 68 FR 23954 (May 6, 2003).

Cash Deposit Requirements

The following cash deposit requirements will be effective upon publication of the notice of the final results of this administrative review for all shipments of chlorinated isos from Spain entered, or withdrawn from warehouse, for consumption on or after the date of publication of the final results in the Federal Register, as provided by section 751(a)(2)(C) of the Act: (1) for the companies covered by this review, the cash deposit rate will be the rates listed above in the section “Final Results of Review”; (2) for merchandise exported by producers or exporters not covered in this administrative review but covered in a prior segment of the proceeding, the cash deposit rate will continue to be the company-specific rate published in a completed segment for the most recent POR; (3) if the exporter is not a firm covered in this review or in the original investigation, but the producer is, the cash deposit rate will be the rate established for the most recently completed segment of this proceeding for the producer of the merchandise; and (4) the cash deposit rate for all other producers or exporters will continue to be 24.83 percent, the all-others rate established in the investigation.¹⁰ These cash deposit requirements, when imposed, shall remain in effect until further notice.

¹⁰ See Chlorinated Isos from Spain Final Determination.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Administrative Protective Order

This notice also serves as a reminder to parties subject to an administrative protective order (APO) of their responsibility concerning the destruction of proprietary information disclosed under APO in accordance with 19 CFR 351.305(a)(3). Timely written notification of the return or destruction of APO materials or conversion to judicial protective order is hereby requested. Failure to comply with the regulations and the terms of an APO is a sanctionable violation.

Notification to Interested Parties

Commerce is issuing and publishing these final results in accordance with sections 751(a)(1) and 777(i)(1) of the Act, and 19 CFR 351.221(b)(5).

Dated: November 2, 2023.
Abdelali Elouaradia,
Deputy Assistant Secretary for Enforcement and Compliance.

Appendix

List of Topics Discussed in the Issues and Decision Memorandum

I. Summary

II. Background

III. Scope of the Order

IV. Changes Since the Preliminary Results

V. Discussion of the Issues

Comment 1: Quarterly Costs

Comment 2: Movement Expenses

Comment 3: Inland Insurance Currency Conversion

Comment 4: Commission Expenses Currency Conversion

VI. Recommendation

[FR Doc. 2023-24810 Filed 11-8-23; 8:45 am]

BILLING CODE 3510-DS-P